NATIONAL ARCHIVES AND RECORDS ADMINISTRATION

[NARA-2017-013]

Agency Information Collection Activities: Submission for OMB Review; Comment Request

AGENCY: National Archives and Records Administration (NARA).

ACTION: Notice.

SUMMARY: NARA is giving public notice that it has submitted to OMB for approval the information collection described in this notice. We invite you to comment on the proposed information collection pursuant to the Paperwork Reduction Act of 1995.

DATES: OMB must receive written comments at the address below on or before February 27, 2017.

ADDRESSES: Send comments to Mr. Nicholas A. Fraser, desk officer for NARA, by mail at Office of Management and Budget; New Executive Office Building; Washington, DC 20503; by fax at 202-395-5167; or by email at Nicholas_A._Fraser@omb.eop.gov.

FOR FURTHER INFORMATION CONTACT: Contact Tamee Fechhelm by telephone at 301-837-1694 or fax at 301-713-7409 with requests for additional information or copies of the proposed information collection and supporting statement.

SUPPLEMENTARY INFORMATION: Pursuant to the Paperwork Reduction Act of 1995 (Pub. L. 104-13), NARA invites the general public and other Federal agencies to comment on proposed information collections. We published a notice of proposed collection notice for this information collection on October 4, 2016 (81 FR 68459-60); and we received no comments. We have therefore submitted the described information collection to OMB for approval.

In response to this notice, comments and suggestions should address one or more of the following points: (a) Whether the proposed information collection is necessary for NARA to properly perform its functions; (b) NARA's estimate of the burden of the proposed information collection and its accuracy; (c) ways NARA could enhance the quality, utility, and clarity of the information it collects; (d) ways NARA could minimize the burden on respondents of collecting the information, including the through information technology; and (e) whether the collection affects small businesses. In this notice, NARA solicits comments concerning the following information collection:

Title: Limited Facility Report.

OMB number: 3095-00XX.

Agency form number: NA Form 16016.

Type of review: Regular.

Affected public: Not-for-profit institutions.

Estimated number of respondents: 75.

Estimated time per response: 60 minutes.

Frequency of response: On occasion.

Estimated total annual burden hours: 75 hours.

Abstract: NARA administers the National Archives Traveling Exhibits Service (NATES) in accordance with 44 U.S.C. 2108-9 to present exhibitions of our holdings and to enter into agreements with other organizations under 44 U.S.C. 2305 for support of such exhibitions.

NARA developed NA Form 16016, Limited Facility Report, to serve as an application for exhibits and to gather information from applicants on a proposed venue's facility and environmental conditions. We provide a copy of the form, requirements for exhibition security, and regulations to the applicant. NARA needs the information contained on this form to determine whether the proposed facility meets the criteria under NARA Directive 1612, Exhibition Loans and Traveling Exhibitions, and whether to grant the application for an exhibit.

Swarnali Haldar,
Executive for Information Services/CIO.

[FR Doc. 2016-31453 Filed 12-28-16; 8:45 am]

BILLING CODE 7515-01-P